NUCLEAR REGULATORY COMMISSION

[Docket No. 071-9305; NRC-2019-0188]

Nuclear Waste Partnerships, LLC

AGENCY: Nuclear Regulatory Commission.

ACTION: Environmental assessment and finding of no significant impact; issuance.

SUMMARY: The U.S. Nuclear Regulatory Commission (NRC) is issuing an environmental assessment (EA) and finding of no significant impact (FONSI) for an exemption request from Nuclear Waste Partnerships, LLC for the one-time shipment of transuranic waste in two TRUPACT-III packages from the Savannah River Site, Aiken, South Carolina, to the Waste Isolation Pilot Plant, Carlsbad, New Mexico.

DATES: The EA and FONSI referenced in this document are available on November 20, 2019.

ADDRESSES: Please refer to Docket ID NRC-2019-0188 when contacting the NRC about the availability of information regarding this document. You may obtain publicly-available information related to this document using any of the following methods:

• Federal Rulemaking Website: Go to https://www.regulations.gov and search for Docket ID NRC-2019-0188. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Pierre Saverot, Office of Nuclear Material Safety and Safeguards, U.S. Nuclear Regulatory Commission, Washington, DC 20555-0001; telephone: 301-415-7505; email: Pierre.Saverot@nrc.gov.

SUPPLEMENTARY INFORMATION:

I. Introduction

On January 28, 2014, Nuclear Waste Partnership, LLC (NWP) requested an exemption pursuant to section 71.12 of title 10 of the Code of Federal Regulations (10 CFR), for approval of two shipments, each containing a single package of the Model No. TRUPACT-III package, from the Savannah River Site (SRS) in Aiken, South Carolina to the Waste Isolation Pilot Plant (WIPP) near Carlsbad, New Mexico. NWP requested an exemption from the requirements of 10 CFR 71.61, “Special Requirements for Type B Packages Containing More than 10⁵ A2,” and authorization for an increase in the decay heat and A2 limit beyond the limits in Certificate of Compliance No. 9305. On June 29, 2016, the NRC granted NWP's exemption request and reissued, on May 15, 2019, that authorization and exemption to correct a typographical error in one of the serial numbers for the Standard Large Box 2 (SLB2) associated with the TRUPACT-III package (ADAMS Accession No. ML19135A512). The NWP's current exemption is set to expire on December 31, 2019.

On July 8, 2019, NWP submitted a request to the NRC for a 24-month extension of the current exemption (ADAMS Accession No. ML19190A289) because it had not yet shipped the two subject TRUPACT-III packages. The NRC is treating NWP's July 8, 2019 request to extend its exemption as a new exemption request—in accordance with 10 CFR 71.12—for the one-time transport of two SLB2 waste boxes, each in a Model No. TRUPACT-III package.

Specifically, NWP requests an exemption from the requirements in 10 CFR 71.61, “Special requirements for Type B packages containing more than 10⁵ A2,” (i.e., deep-water immersion test). NWP requests an exemption from the deep-water immersion test because the design of a TRUPACT-III package containing more than 10⁵A2 has not been demonstrated to meet the deep-water immersion requirements of 10 CFR 71.61, i.e., the package's undamaged containment system has not been shown that it can withstand an external water pressure of 2 MegaPascal for a period of not less than 1 hour without collapse, buckling, or in-leakage of water.

Along with its exemption request, NWP also requests approval from the NRC for an increase in: (1) The A2 limit from less than 10⁵A2 to 2.1x10⁵A2 and (2) the authorized decay heat limit from 80 watts (W) to 190 W. The A2 and decay heat limits are established in the TRUPACT-III Certificate of Compliance No. 9305, Revision No. 10 (ADAMS Package Accession No. ML18171A176).

The TRUPACT-III is a shipping container used to transport transuranic (TRU) waste within an SLB2. The TRUPACT-III packages are front loaded in a horizontal position on custom-designed trailers for truck transport. The two TRUPACT-III packages will be transported by truck from the SRS in South Carolina, to the U.S. Department of Energy WIPP, Carlsbad, New Mexico.

The SLB2 waste boxes have not yet been loaded into the TRUPACT-III packages and are currently sitting on a storage pad at SRS. The contents of each SLB2 waste box is primarily one-half of a decommissioned tank used to process Plutonium-238.

II. Environmental Assessment

Description of the Proposed Action

Under the requirements of 10 CFR 51.21 and 51.30(a), the NRC staff developed an EA (ADAMS Accession No. ML19317E461) to evaluate the proposed Federal action, which is for the NRC to grant an exemption to NWP from the deep-water immersion test requirements for the one-time transport of two TRUPACT-III packages from SRS to WIPP.

Need for the Proposed Action

The EA defines the NRC's proposed action (i.e., to grant NWP's exemption request from 10 CFR 71.61) and the purpose and need for the proposed action. Evaluations of the potential environmental impacts of the proposed action and alternatives to the proposed action were considered, followed by the NRC's conclusion.

Environmental Impacts of the Proposed Action

The EA evaluates the potential environmental impacts of granting the exemption of the two subject TRUPACT-III packages from the deep-water immersion test. The only potential impacts from granting the exemption would be radiological impacts associated with an accident scenario. However, the analysis in the EA shows that there would be no radiological impacts as a result of exempting these two packages from the deep-water immersion test since the packages will not cross any body of water with a depth greater than 15 meters (m) (50 feet [ft]). Any nonradiological impacts would be no greater than those for the transport of any other TRUPACT-III package and would be bounded by previous environmental analyses (NUREG-0170, Vol. 1; ADAMS Accession No. ML12192A283). Therefore, the environmental impacts of transporting these two TRUPACT-III packages from SRS to WIPP are still bounded by those impacts documented in NUREG-0170.

Environmental Impacts of the Alternatives to the Proposed Action

As an alternative to the proposed action, the staff considered denial of the proposed action (i.e., the “no-action” alternative); further segmenting the waste; using a different type of package; and storing the waste until the activity decays below 10⁵A2. None of the alternatives is preferable to the proposed action because either the impacts are greater than the proposed action or they do not meet the purpose and need of the proposed action. Therefore, the proposed action is the preferred alternative.

Agencies and Persons Consulted

In accordance with its stated policy, on September 23, 2019, the staff consulted with the States of South Carolina and New Mexico regarding the environmental impact of the proposed action (ADAMS Accession Package Nos. ML19269E263, and ML19269E169, respectively). The NRC did not receive any comments on the draft EA (ADAMS Accession Nos. ML19304B327, and ML19310F330, respectively).

III. Finding of No Significant Impact

The NRC staff has prepared an EA and FONSI in support of the proposed action. The EA is available at ADAMS Accession No. ML19317E461. The NRC staff has concluded that the proposed action, for the NRC to grant an exemption to NWP from the deep-water immersion test for the transport of two SLB2 waste boxes in Model No. TRUPACT-III packages from SRS to WIPP, will not significantly impact the quality of the human environment, and that the proposed action is the preferred alternative. The environmental impacts of the two packages are bounded by previous NRC environmental analysis since the packages will not cross bodies of water greater than 15 m (50 ft) in depth.

The NRC staff has determined that the exemption from the deep-water immersion test for the two subject packages would have no impact on historic and cultural resources or ecological resources and, therefore, no consultations are necessary under Section 106 of the National Historic Preservation Act and Section 7 of the Endangered Species Act, respectively.

The NRC finds that there are no significant environmental impacts from the proposed action, and that preparation of an environmental impact statement is not warranted.

Accordingly, the NRC has determined that a FONSI is appropriate.

Dated at Rockville, Maryland, this 14th of November, 2019.
For the Nuclear Regulatory Commission.
Daniel I. Doyle,
Acting Chief, Storage and Transportation Licensing Branch Division of Fuel Management, Office of Nuclear Material Safety and Safeguards.

[FR Doc. 2019-25121 Filed 11-19-19; 8:45 am]

BILLING CODE 7590-01-P